ELECTION ASSISTANCE COMMISSION

Roundtable Discussion; Corrections

AGENCY: U.S. Election Assistance Commission.

ACTION: Notice; corrections.

SUMMARY: The U.S. Election Assistance Commission published a document in the Federal Register regarding the scheduled Roundtable Discussion: 2020 Elections Lessons Learned. The Roundtable Discussion scheduled for 1:30 p.m.-3:30 p.m. Eastern on Wednesday, January 27, 2021 is cancelled. The Notice appeared in the Federal Register of January 8, 2021, in FR Doc. 2021-0269, on page 1486 in the third column and page 1487 in the first column.

FOR FURTHER INFORMATION CONTACT: Kristen Muthig, Telephone: (202) 897-9285, Email: kmuthig@eac.gov.

Amanda Joiner,
Associate Counsel, U.S. Election Assistance Commission.

[FR Doc. 2021-00546 Filed 1-12-21; 8:45 am]

BILLING CODE P